DEPARTMENT OF HOMELAND SECURITY

Coast Guard

[Docket No. USCG-2010-0316]

National Boating Safety Advisory Council; Vacancies

AGENCY: Coast Guard, DHS.

ACTION: Request for applications.

SUMMARY: The Coast Guard seeks applications for membership on the National Boating Safety Advisory Council (NBSAC). This Council advises the Coast Guard on recreational boating safety regulations and other major boating safety matters.

DATES: Completed applications should reach the Coast Guard on or before May 12, 2014.

ADDRESSES: Applicants should send their cover letter and resume via one of the following methods:

• By mail: Commandant (CG-BSX-2)/NBSAC, Attn: Mr. Jeff Ludwig, U.S. Coast Guard, 2703 Martin Luther King Ave. SE., Stop 7581, Washington, DC 20593-7581.

• By email: jeffrey.a.ludwig@uscg.mil.

FOR FURTHER INFORMATION CONTACT: Mr. Jeff Ludwig, ADFO of National Boating Safety Advisory Committee; telephone 202-372-1061 or email at jeffrey.a.ludwig@uscg.mil.

SUPPLEMENTARY INFORMATION: The National Boating Safety Advisory Council (NBSAC) is a federal advisory committee under the Federal Advisory Committee Act, (Pub. L. 92-463; 5 U.S.C. Appendix). It was established under authority of 46 U.S.C. 13110 and advises the Coast Guard on boating safety regulations and other major boating safety matters. NBSAC has 21 members: Seven representatives of State officials responsible for State boating safety programs, seven representatives of recreational boat manufacturers and associated equipment manufacturers, and seven representatives of national recreational boating organizations and the general public, at least five of whom are representatives of national recreational boating organizations. Members are appointed by the Secretary of the Department of Homeland Security.

The Council usually meets at least twice each year at a location selected by the Coast Guard. It may also meet for extraordinary purposes. Subcommittees or working groups may also meet to consider specific problems.

We will consider applications for seven positions that expire or become vacant on December 31, 2014:

• Three representatives of State officials responsible for State boating safety programs;

• Two representatives of recreational boat and associated equipment manufacturers; and

• Two representatives of national recreational boating organizations or the general public.

Applicants are considered for membership on the basis of their particular expertise, knowledge, and experience in recreational boating safety. Appointments for the 2014 vacancies remain pending. The vacancies announced in this notice do not include the 2014 vacancies. The vacancies announced in this notice apply to membership positions that become vacant on January 1st, 2015. Applicants for the 2014 vacancies announced in the Federal Register on January 9, 2013, (78 FR 1865) will automatically be considered for the 2015 vacancies and do not need to submit another application. Individuals, who submitted an application for any year prior to 2014, are asked to re-submit an application if the individual wishes to apply for any of the vacancies announced in this notice.

To be eligible, you should have experience in one of the categories listed above. Registered lobbyists are not eligible to serve on Federal advisory committees. Registered lobbyists are lobbyists required to comply with provisions contained in The Lobbying Disclosure Act of 1995 (Pub. L. 104-65; as amended by Title II of Pub. L. 110-81). Each member serves for a term of three years. Members may be considered to serve consecutive terms. All members serve at their own expense and receive no salary, or other compensation from the Federal Government. The exception to this policy is when attending NBSAC meetings; members may be reimbursed for travel expenses and provided per diem in accordance with Federal Travel Regulations.

The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions.

If you are selected as a non-representative member or as member from the general public, you will be appointed and serve as a special Government employee (SGE) as defined in section 202(a) of title 18, United States Code. As a candidate for appointment as a SGE, applicants are required to complete a Confidential Financial Disclosure Report (OGE Form 450). DHS may not release the reports or the information in them to the public except under an order issued by a Federal court or as otherwise provided under the Privacy Act (5 U.S.C. 552a). Applicants can obtain this form by going to the Web site of the Office of Government Ethics (www.oge.gov) or by contacting the individual listed above in “FOR FURTHER INFORMATION CONTACT”. Applications which are not accompanied by a completed OGE Form 450 will not be considered.

If you are interested in applying to become a member of the Committee, send your cover letter and resume to Mr. Jeff Ludwig, Alternate Designated Federal Officer (ADFO) of NBSAC by email or mail according to the instructions in the ADDRESSES section by the deadline in the DATES section of this notice. Indicate the specific position you request to be considered for and specify your area of expertise that qualifies you to serve on NBSAC. Note that during the vetting process, applicants may be asked to provide date of birth and social security number. All email submittals will receive email receipt confirmation.

To visit our online docket, go to http://www.regulations.gov. Enter the docket number for this notice (USCG-2010-0316) in the Search box, and click “Search.” Please do not post your resume or OGE-450 Form on this site.

Jonathan C. Burton,
Captain, U.S. Coast Guard, Director of Inspections and Compliance.

[FR Doc. 2014-05293 Filed 3-10-14; 8:45 am]

BILLING CODE 9110-04-P